DEPARTMENT OF THE INTERIOR

Bureau of Ocean Energy Management

[Docket No. BOEM-2012-0079]

Research Lease for Renewable Energy on the Outer Continental Shelf (OCS) Offshore Virginia, Request for Competitive Interest (RFCI)

AGENCY: Bureau of Ocean Energy Management (BOEM), Interior.

ACTION: Public Notice of an Unsolicited Request for an OCS Research Lease; Request for Competitive Interest; and Request for Public Comment.

SUMMARY: The purpose of this public notice is to: (1) Describe the proposal submitted to BOEM by the Commonwealth of Virginia, Department of Mines Minerals and Energy (DMME) to acquire an OCS lease for wind energy research activities; (2) solicit public input regarding the proposal, its potential environmental consequences, and the use of the area in which the proposed project would be located; and (3) solicit indications of competitive interest for a research lease in the area identified by DMME for activities that would support future, potential commercial wind development.

On June 1, 2012, BOEM received an unsolicited request for a research lease from DMME. The objective of DMME is to obtain a lease under 30 CFR 585.238 for renewable energy research activities, including the siting of two meteorological and ocean monitoring platforms for pre-and post-construction collection of resource data, including wind velocities, water levels, waves, and bird and bat activities, to support the future production of renewable energy within and around the Wind Energy Area (WEA) offshore Virginia, identified by BOEM.

This RFCI is published pursuant to subsection 8(p)(3) of the OCS Lands Act, as amended by section 388 of the Energy Policy Act of 2005 (EPAct) (43 U.S.C. 1337(p)(3)), and the implementing regulations at 30 CFR Part 585.

DATES: If you are a Federal agency or a state entity submitting an indication of interest in acquiring a research lease for the area proposed by DMME, your submission must be sent by mail, postmarked no later than January 22, 2013 for your submission to be considered. If you are providing comments or other submissions of information, you may send them by mail, postmarked by this same date, or you may submit them through the Federal Rulemaking Portal at http://www.regulations.gov, also by this same date.

Submission Procedures: Federal agencies and state entities wishing to obtain a research lease for the area requested by DMME should submit detailed and specific information as described in the section entitled “Required Indication of Interest Information.” If you are submitting an indication of competitive interest for a research lease or comments, please submit it by mail to the following address: Bureau of Ocean Energy Management, Office of Renewable Energy Programs, 381 Elden Street, HM 1328, Herndon, Virginia 20170. Submissions must be postmarked by January 22, 2013 to be considered by BOEM for the purposes of determining competitive interest. In addition to a paper copy of your submission, include an electronic copy on a compact disc. BOEM will list the parties that submit indications of competitive interest on the BOEM Web site after the 30-day comment period has closed.

If you wish to protect the confidentiality of your submissions or comments, clearly mark the relevant sections and request that BOEM treat them as confidential. Please label privileged or confidential information “Contains Confidential Information” and consider submitting such information as a separate attachment. Treatment of confidential information is addressed in the section of this notice entitled, “Privileged or Confidential Information.” BOEM will post all comments on regulations.gov unless labeled as confidential. Information that is not labeled as privileged or confidential will be regarded by BOEM as suitable for public release.

If you are submitting comments and other information concerning the proposed research lease area, you may use either of the following two methods:

1. Federal eRulemaking Portal: http://www.regulations.gov. In the entry entitled “Enter Keyword or ID,” enter BOEM-2012-0079, and then click “search.” Follow the instructions to submit public comments and view supporting and related materials available for this notice.

2. Alternatively, comments may be submitted by mail to the following address: Bureau of Ocean Energy Management, Office of Renewable Energy Programs, 381 Elden Street, HM 1328, Herndon, Virginia 20170.

FOR FURTHER INFORMATION CONTACT: Mr. Casey Reeves, Renewable Energy Program Specialist, BOEM, Office of Renewable Energy Programs, 381 Elden Street, HM 1328, Herndon, Virginia 20170; phone (703) 787-1320.

SUPPLEMENTARY INFORMATION:

Purpose of the RFCI

Responses to this public notice will allow BOEM to determine, pursuant to 30 CFR 585.238, whether or not there is competitive interest in acquiring an OCS research lease in the area requested by DMME. At this time, BOEM is only soliciting indications of interest in obtaining a research lease in the area described in this notice. If BOEM receives no competing indications of interest for a research lease in response to this notice, BOEM may decide to move forward with the research leasing process using the non-competitive procedures described in 30 CFR 585.238(d).

BOEM previously solicited nominations for commercial wind development in the Virginia WEA through the publication of a notice, on February 3, 2012, entitled, “Commercial Leasing for Wind Power Development on the Outer Continental Shelf (OCS) Offshore Virginia—Call for Information and Nominations” (77 FR 5545). In that notice, BOEM identified the area that DMME had proposed for potential research activities, and BOEM requested the any entity submitting a nomination for a potential commercial lease area that overlapped with DMME's potential research lease area include in their nomination information relating to potential interaction between the nominating entity's proposed activities and DMME's proposed activities. Specifically, BOEM asked whether the nominating entity would consider the proposed DMME activities to be compatible with its commercial wind activities proposed for the Virginia WEA. BOEM also stated that if the nominating entity believed it would be necessary to exclude or restrict DMME's proposed activities from occurring in the commercial lease area, then the nominating entity should provide an explanation. No nominating entities indicated that there would be potential incompatibilities with the proposed DMME research activities. Therefore, BOEM determined that it would be appropriate to move forward with DMME's research lease application and publish this RFCI.

This notice also provides an opportunity for interested stakeholders to comment on the proposed lease area and the proposed DMME research project and any potential impacts that the project may have. BOEM will consider comments submitted when deciding whether and how to move forward with the research leasing process.

DMME's Proposed Research Activities

DMME's proposed research activities are described in their unsolicited request for a research lease, which is available at the following URL: http://www.boem.gov/uploadedFiles/BOEM/Renewable_Energy_Program/State_Activities/VA%20DMME%20Application%20for%20Sec238%20Research%20Lease1%202012-06-01.pdf.

Description of the Proposed Research Lease Area

The proposed research lease area consists of four OCS sub-blocks (i.e., 1/16 of an OCS block). The table below describes the OCS lease sub-blocks included within the area of interest.

Protraction name | Protraction No. | Block No. | Sub block
Currituck Sound | NJ18-11 | 6014 | B,C
Currituck Sound | NJ18-11 | 6164 | N,O

Map of the Area

A map of the area proposed by DMME and the area included in this RFCI can be found at the following URL: http://www.boem.gov/Renewable-Energy-Program/State-Activities/Virginia.aspx.

A large scale map of the RFCI area showing boundaries of the area with the numbered blocks is available from BOEM at the following address: Bureau of Ocean Energy Management, Office of Renewable Energy Programs, 381 Elden Street, HM 1328, Herndon, Virginia 20170. Phone: (703) 787-1320, Fax: (703) 787-1708.

Required Indication of Interest Information

If you are a Federal agency or a state entity and you intend to submit an indication of competitive interest for a research lease for the area identified in this notice you must provide the following:

(1) A statement that you wish to acquire a research lease for the proposed lease area (i.e., the entire area as described above). BOEM will not consider indications of interest if they cover less than the entire proposed research lease area. Any interest in an area located outside of the proposed research lease area should be submitted separately pursuant to 30 CFR 585.238;

(2) A general description of your objectives and the facilities that you would use to achieve those objectives;

(3) A general schedule of proposed activities;

(4) Available and pertinent data and information concerning renewable energy resources and environmental conditions in the area that you wish to lease, including energy and resource data and information used to evaluate the area of interest. Where applicable, spatial information should be submitted in a format compatible with ArcGIS 9.3 in a geographic coordinate system (NAD 83);

(5) Documentation demonstrating that you are legally qualified to hold a research lease as set forth in 30 CFR 585.106 and 107. Examples of the documentation appropriate for demonstrating your legal qualifications and related guidance can be found in Chapter 2 and Appendix B of the Guidelines for the Minerals Management Service Renewable Energy Framework available at: http://www.boem.gov/Renewable-Energy-Program/Regulatory-Information/Index.aspx. Legal qualification documents will be placed in an official file that may be made available for public review. If you wish that any part of your legal qualification documentation be kept confidential, clearly identify what should be kept confidential, and submit it under separate cover (see “Protection of Privileged or Confidential Information Section,” below); and

(6) Documentation demonstrating that you are technically and financially capable of constructing, operating, maintaining and decommissioning the facilities described in your submission. Guidance regarding the required documentation to demonstrate your technical and financial qualifications can be found at: http://www.boem.gov/Renewable-Energy-Program/Regulatory-Information/Index.aspx.

It is critical that you provide a complete submission of competitive interest including the items identified in (1) through (6) so that BOEM may consider your submission in a timely manner. If BOEM reviews your submission and determines that it is incomplete, BOEM will inform you of this determination in writing and describe the information that BOEM wishes you to provide in order for BOEM to deem your submission complete. You will be given 15 business days from the date of the letter to provide the information that BOEM found to be missing from your original submission. If you do not meet this deadline, or if BOEM determines your second submission is also insufficient, BOEM may deem your submission invalid. In such a case, BOEM would not consider your submission.

Environmental Review Process

On February 3, 2012, BOEM published an environmental assessment (EA) and finding of no significant impact (FONSI) for the issuance of commercial and research leases and approval of a reasonably foreseeable range of data collection devices in the WEAs offshore New Jersey, Maryland, Delaware, and Virginia. The EA and FONSI can be found at: http://www.boem.gov/Renewable-Energy-Program/Smart-from-the-Start/Index.aspx. If BOEM issues a research lease to DMME, BOEM would determine whether the EA adequately considers the environmental consequences of the activities proposed in DMME's submitted plan, which would include the results of the necessary site characterization surveys. If the analysis in the EA adequately considers these consequences, then no further National Environmental Policy Act (NEPA) analysis would be required before the plan could be approved. If, on the other hand, BOEM determines that the analysis in the EA is inadequate for that purpose, BOEM would prepare an additional NEPA analysis before approving the plan.

Protection of Privileged or Confidential Information

Freedom of Information Act

BOEM will protect privileged or confidential information that you submit as required by the Freedom of Information Act (FOIA). Exemption 4 of FOIA applies to trade secrets and commercial or financial information that you submit that is privileged or confidential. If you wish to protect the confidentiality of such information, clearly mark it and request that BOEM treat it as confidential. BOEM will not disclose such information, subject to the requirements of FOIA. Please label privileged or confidential information, “Contains Confidential Information,” and consider submitting such information as a separate attachment.

However, BOEM will not treat as confidential any aggregate summaries of such information or comments not containing such information. Additionally, BOEM will not treat as confidential: (1) The legal title of the nominating Federal or state agency; or (2) the geographic location of facilities and the types of those facilities. Information that is not labeled as privileged or confidential will be regarded by BOEM as suitable for public release.

Section 304 of the National Historic Preservation Act (16 U.S.C. 470w-3(a))

BOEM is required, after consultation with the Secretary of the Interior, to withhold the location, character, or ownership of historic resources, if it determines that disclosure may, among other things, cause a significant invasion of privacy, risk harm to the historic resources or impede the use of a traditional religious site by practitioners. Tribal entities and other interested parties should designate information that they wish to be held as “confidential.”

Dated: December 18, 2012.
Tommy P. Beaudreau,
Director, Bureau of Ocean Energy Management.

[FR Doc. 2012-30829 Filed 12-20-12; 8:45 am]

BILLING CODE 4310-MR-P